DEPARTMENT OF TRANSPORTATION

Surface Transportation Board

[STB Finance Docket No. 33879 (Sub-No. 1)]

Union Pacific Railroad Company—Trackage Rights Exemption—The Burlington Northern and Santa Fe Railway Company

AGENCY: Surface Transportation Board.

ACTION: Notice of Exemption.

SUMMARY: The Board, under 49 U.S.C. 10502, exempts the trackage rights described in STB Finance Docket No. 33879 ¹ to permit the trackage rights to expire on June 25, 2000, in accordance with the agreement of the parties.

¹ On June 2, 2000, UP filed a notice of exemption under the Board's class exemption procedures at 49 CFR 1180.2(d)(7). The notice covered the agreement by The Burlington Northern and Santa Fe Railway Company (BNSF) to grant temporary overhead trackage rights to UP over 143.1 miles of BNSF's rail line between BNSF milepost 117.4 near Shawnee, Junction, WY, and BNSF milepost 0.0 near Northport, NE. See Union Pacific Railroad Company—Trackage Rights Exemption—The Burlington Northern and Santa Fe Railway Company, STB Finance Docket No. 33879 (STB served June 14, 2000). The trackage rights agreement is scheduled to expire June 25, 2000. The trackage rights operations under the exemption were scheduled to be consummated on June 10, 2000.

DATES: This exemption will be effective on June 25, 2000.

ADDRESSES: An original and 10 copies of all pleadings referring to STB Finance Docket No. 33879 (Sub-No. 1) must be filed with the Office of the Secretary, Surface Transportation Board, Case Control Unit, 1925 K Street, NW, Washington, DC 20423-0001. In addition, a copy of all pleadings must be served on petitioner's representative, Robert T. Opal, 1416 Dodge Street, Room 830, Omaha, NE 68179.

FOR FURTHER INFORMATION CONTACT: Joseph H. Dettmar (202) 565-1600. [TDD for the hearing impaired 1-800-877-8339.]

SUPPLEMENTARY INFORMATION: Additional information is contained in the Board's decision. To purchase a copy of the full decision, write to, call, or pick up in person from: Dā-To-Dā Office Solutions, Suite 210, 1925 K Street, NW, Washington, DC 20006. Telephone: (202) 289-4357. [Assistance for the hearing impaired is available through TDD services 1-800-877-8339.]

Board decisions and notices are available on our website at “WWW.STB.DOT.GOV.”

Decided: June 19, 2000.
By the Board, Chairman Morgan, Vice Chairman Burkes, and Commissioner Clyburn.
Vernon A. Williams,
Secretary.

[FR Doc. 00-15969 Filed 6-22-00; 8:45 am]

BILLING CODE 4915-00-P